DEPARTMENT OF DEFENSE

Department of the Air Force

[Docket ID: USAF-2025-HQ-0102]

Proposed Collection; Comment Request

AGENCY: Department of the Air Force, Department of Defense (DoD).

ACTION: 60-Day information collection notice.

SUMMARY: In compliance with the Paperwork Reduction Act of 1995, the Jeanne M. Holm Center for Officer Accessions and Citizen Development announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 2, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Jeanne M. Holm Center for Officer Accessions and Citizen Development, Academic Affairs; 60 W Schumacher Ave., Maxwell AFB, AL 36112; Mr. William McClurg, 334-953-2398.

SUPPLEMENTARY INFORMATION:

Title; Associated Form; and OMB Number: Air Force Junior Reserve Officer Training Corps Principal Survey; OMB Control Number 0701-AFPS.

Needs and Uses: The Department of the Air Force is seeking public comment on a proposed survey for principals of high schools that host an Air Force Junior ROTC (AFJROTC) program. Feedback from school leadership is essential for meeting the mandatory quality assurance standards of the program's accrediting body, Cognia. The survey responses also provide critical information to the Jeanne M. Holm Center for Officer Accessions and Citizen Development—the Air Force organization that manages AFJROTC. The collected information will be used exclusively to evaluate the program's effectiveness, assess whether it is meeting its educational goals, and identify areas for improvement, ensuring the Air Force continues to offer a valuable citizenship and leadership program for students nationwide.

Affected Public: Individuals or households (high school principals).

Annual Burden Hours: 64.

Number of Respondents: 255.

Responses per Respondent: 1.

Annual Responses: 255.

Average Burden per Response: 15 minutes.

Frequency: Annually.

Dated: December 23, 2025.
Stephanie J. Bost,
Alternate OSD Federal Register Liaison Officer, Department of Defense.

[FR Doc. 2025-24062 Filed 12-30-25; 8:45 am]

BILLING CODE 6001-FR-P